DEPARTMENT OF DEFENSE

OFFICE OF PERSONNEL MANAGEMENT

5 CFR Part 9901

RIN 3206-AL62

National Security Personnel System; Correction

AGENCY: Department of Defense; Office of Personnel Management.

ACTION: Final rule; correction.

SUMMARY: The Department of Defense (DoD) and the Office of Personnel Management (OPM) published in the Federal Register of September 26, 2008 (73 FR 56344) a final rule governing the operation of the National Security Personnel System (NSPS), a human resources management system for DoD, as originally authorized by the National Defense Authorization Act for Fiscal Year 2004 and amended by the National Defense Authorization Act for Fiscal Year 2008. This correction document clarifies the effective date of the final rule.

DATES: Effective October 7, 2008.

FOR FURTHER INFORMATION CONTACT: At DoD, Bradley B. Bunn, (703) 696-5303; for OPM, Charles D. Grimes III, (202) 418-3163.

SUPPLEMENTARY INFORMATION: In FR Doc. E8-22483, appearing on page 56344 in the Federal Register of Friday, September 26, 2008, the DATES section should read, “Effective November 25, 2008.”

Office of Personnel Management.
Charles D. Grimes III,
Deputy Associate Director, Center for Performance and Pay Systems, Department of Defense.

Bradley B. Bunn,
Program Executive Officer, National Security Personnel System.

[FR Doc. E8-23727 Filed 10-6-08; 8:45 am]

BILLING CODE 6325-39-P